DEPARTMENT OF ENERGY

Federal Energy Regulatory Commission

[Docket No. RP98-206-010]

Atlanta Gas Light Company; Notice of Compliance Filing

December 11, 2002.

Take notice that on December 6, 2002, Atlanta Gas Light Company (Atlanta), in compliance with the Commission's November 21, 2002 Order in the above-referenced proceeding, has supplemented its Rate Schedule IBSS filing to include its section 15 of the Terms of Service of the currently effective Atlanta tariff on file with the Georgia Public Service Commission. In addition, Atlanta has included its Section 1 definitions contained in the currently effective Atlanta tariff. These revised definitions are being filed to replace an incorrect version of that section of Atlanta's tariff inadvertently filed on August 19, 2002.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-31744 Filed 12-17-02; 8:45 am]

BILLING CODE 6717-01-P